DEPARTMENT OF AGRICULTURE

Forest Service

White River National Forest, Colorado, Travel Management Plan

AGENCY: Forest Service, USDA.

ACTION: Notice of intent to prepare an environmental impact statement.

SUMMARY: Pursuant to 40 Code of Federal Regulations (CFR) 1501.7, the Forest Supervisor of the White River National Forest gives notice of the intent to prepare an environmental impact statement (EIS) in conjunction with the Travel Management Plan (Travel Plan) for the White River National Forest.

This notice describes the specific elements to be included in the Travel Plan, decisions to be made, estimated dates for filing the EIS, information concerning public participation, and the names and address of the agency officials who can provide information.

DATES: Comments concerning the scope of the analysis must be received by October 31, 2002. The draft environmental impact statement (DEIS) is expected in the winter of 2004, and the final environmental impact statement (FEIS) is expected winter/spring of 2005.

ADDRESSES: Send written comments to Dottie Bell, White River National Forest, PO Box 948, Glenwood Springs, Colorado 81602.

FOR FURTHER INFORMATION CONTACT: Vincent Picard, Public Affairs Specialist, White River National Forest, PO Box 948, Glenwood Springs, Colorado 81602, (970) 945-2521.

For technical information contact:

Wendy Haskins, Transportation Planner, White River National Forest, PO Box 948, Glenwood Springs, Colorado 81602, (970) 945-2521, or

Dan Hormaechea, Planning and Information Systems Director, White River National Forest, PO Box 948, Glenwood Springs, Colorado 81602, (970) 945-2521.

Responsible Official: Martha Ketelle, Forest Supervisor, White River National Forest, PO Box 948, Glenwood Springs, Colorado 81602.

SUPPLEMENTARY INFORMATION: Pursuant to 40 Code of Federal Regulations (CFR) 1501.7, the Forest Supervisor for the White River National Forest gives notice of the agency's intent to prepare an EIS in conjunction with the Travel Management Plan required under 36 CFR 212.5(b). The White River National Forest invites those interested parties and affected people to participate in the analysis and contribute to the final decision for this proposed action.

The Forest Service is seeking information, comments and assistance from individuals, organizations, tribal governments, and federal, state and local agencies that are interested in or may be affected by the proposed action. The public is invited to help identify issues and define the range of alternatives to be considered in the EIS. The range of alternatives will be based on the identification of significant public issues, management concerns, resource management opportunities, and plan decisions specific to Travel Management within the scope of the White River National Forest Land and Resource Management Plan 2002 Revision (Forest Plan). Written comments identifying issues for analysis and range of alternatives are encouraged.

Background

Travel can be described as the movement of people, goods and services. Travel management on the White River National Forest considers the planning of and providing for the appropriate movement of people and products through the Forest. An efficient transportation network is essential for forest resource management, outdoor recreation use and access. Forest management considers vegetation, water, soil, aquatic ecosystems, wildlife, range, recreation, minerals, and fire management. Access is necessary to manage these resources and activities, as well as provide egress and ingress to private in-holdings. This transportation network and the manner in which it is used needs to be efficient, effective in providing access, properly maintained, and ecologically sound to minimize adverse affects on resources.

The White River National Forest's current travel system receives most of its use from recreation users. Recreation on the Forest has substantially increased since the last major transportation planning effort in 1984. Since that time, there have been technological changes that effect access and recreation use. Mountain bikes have become very popular, and they are able to go on a variety of terrains. Likewise, all terrain vehicle and snowmobile advances allow these machines to access areas that were once inaccessible.

There are two main types of recreation travel, destination travel and recreation occurring on the travelway. Destination travel can be defined as using the travelway to get to a particular site for recreational purposes. Examples are fishing, picnicking, boating, hunting, skiing, site seeing, gathering forest products, visiting historic sites and camping. Recreation occurring on the travelway can include driving for pleasure, 4-wheel driving, jeeping, all terrain vehicle driving, motorcycling, horseback riding, hiking, snowmobiling, cross-country skiing, snowshoeing and mountain biking. Some types of recreation entail both types of travel; all of these uses require some type of transportation access. With the amount and variety of uses, recreational activities can cause user conflict. The transportation network and uses on the network needs to be able to accommodate the varied recreational activities our publics enjoy. At the same time, this network has to be an efficient, manageable system for the Forest Service. Developing a Travel Plan to accommodate and balance the transportation needs of the public and to provide adequate access for forest and resource management is the goal of this document.

Purpose and Need for Action

In order to align the travel strategy on the Forest with the White River Forest Plan and to comply with 36 CFR 212.5(b), the Forest Supervisor expressed the need for a forest-wide Travel Management Plan. This effort is the extension of an earlier effort to provide a Travel Management Plan along with the White River Forest Plan. Due to public input and the complexity of the subject matter, the decision was made to separate the two plans and develop the Travel Management Plan after the completion of the Forest Plan. This Travel Management Plan and the incorporated EIS intend to meet that commitment.

Since the last Travel Plan (1984), land management concepts, practices and priorities have modified. Technology and science have advanced, and they are reflected in Forest Service land management. These changes also need to be reflected in an efficient travel system that serves land management in an ecologically sound manner.

Recreational use on the Forest has increased over the past eighteen years and new modes of travel have come into play (i.e., mountain bikes and all-terrain vehicles). Advances in vehicular and mechanical travel have allowed machines to travel further and over rougher terrain than before. The Forest needs to address how and where to allow various forms of recreation and how to accommodate the varied, and sometimes conflicting, recreation uses.

This document seeks to update the travel management uses and to identify an efficient road and trail system for the White River National Forest. The purpose is to have a clear and concise plan for a transportation network that addresses the needs for forest management, public access and recreation use.

Nature of Decision To Be Made

The Travel Management Plan is an assessment of how and where travel should occur on the Forest. The development of this document shall be an accumulation of ideas, concepts, and analysis from forest specialists, district personnel, other agency personnel, and interested publics.

The six decisions to be made in the Travel Management Plan are:

1. Designation of summer (snow-free) travel area strategies.

• Area strategy describes whether an area is open, restricted, or closed to a specific use and where that use is allowed to occur.

2. Designations for road and trail uses during summer (snow-free) periods.

• These define specific use for each road and trail including seasonal restrictions. The standard use categories are passenger car, four-wheel drive vehicles, all-terrian vehicle, motorcycle, mountain bike, horse and pack animal, and foot.

3. Designation of winter travel area strategies.

• An area strategy describes whether an area is open, restricted, or closed to a specific use.

4. Designation of winter routes.

• Defines routes through restricted areas for over-snow use.

5. Designation or elimination of unclassified travelways.

• Currently there are over 500 miles of inventoried or known roads and trails that are not officially designated as part of the Forest travel system. These may have been constructed for specific short-time purpose and were never properly closed, or they may also be the result of traffic going off-road or trail repeatly forming an illegal road or trail. Legally, the Forest Service cannot recognize nor maintain them. Therefore, it is proposed to either designate these travelways or eliminate them. This will be a one-time look at these travelways for designation or elimination; one which follows the NEPA process and examines the environmental impacts. After this process, any new unclassified travelways will automatically be designated for elimination. Any new road or trail proposed would have to undergo analysis in accordance with the National Environmental Policy Act (NEPA).

6. Identification of specific roads for decommissioning.

• One of the objective strategies in the Forest Plan is to decommission 22 miles of unneeded road per year. The Travel Plan will identify specific system roads that meet the criteria for decommissioning.

Range of Alternatives

The proposed action is to create a Travel Management Plan for the White River National Forest. All alternatives will be in compliance with and tier to the decisions made in the Forest Plan. It is not the intent of this proposal to amend the Forest Plan.

The range of alternatives considered will address different options to resolve concerns raised as significant issues and to fulfill the purpose and need. A reasonable range of alternatives will be evaluated. Rationale will be given for any alternative eliminated from detailed consideration. Alternatives will represent differing concepts based on quality and quantity of travel.

A “no-action alternative” is required by law. The no-action alternative under this analysis will assume travel management conditions as described under the Forest Plan. Additional alternatives will provide a range of ways to address and respond to public issues, management concerns and resource opportunities identified during the scoping process.

The following thematic descriptions represent three alternatives to be considered in the EIS.

• Maximum: This alternative emphasizes the social and recreational needs associated with an expanded the transportation system. It allows more opportunity for separation of recreational uses and more opportunity for winter travel. It adds relatively more unclassified roads and trails into the system and has less miles of roads to be decommissioned. It would contain the most miles of roads and trails available for travel. With more miles of trail and road, there would be relatively more impacts to resources; therefore, mitigation and protection measures would take longer to implement under this alternative.

• Minimum: This alternative places less of an emphasis on meeting social and recreational needs. It follows the hierarchical or shared recreational use system, with few routes designated for a single use, and provides less opportunity for winter travel. Fewer unclassified roads and trails are added to the system with more miles of road selected for decommissioning. This alternative would have the least amount of roads and trails available for travel. Under this alternative, there are relatively less impacts to resources; therefore, mitigation and protection measures take a shorter amount of time to implement.

• Blended: In this alternative, social, recreation and resource needs associated with the transportation system are considered equitably. This alternative seeks to create a balanced emphasis containing both separation of uses and shared use systems, along with a moderate amount of area available for winter travel. In this alternative, some unclassified roads and trails are be added to the system. Some system roads are selected for decommissioning.

• No Action: This alternative reflects the current condition under the Forest Plan. It contains the roads and trails currently in the travel system. The uses generally follow the heirarchical system. No unclassified roads or trails are added to the system, and no classified roads are designated for decommissioning under this alternative.

The public is encouraged to comment on these alternative concepts as well as present others for consideration.

Scoping Process/Comment Requested

The first formal opportunity to comment on the White River Travel Management Plan is during the scoping process (40 CFR 1501.7), which begins with the issuance of this notice of intent. All comments, including the names, addresses and when provided, are placed in the record and are available for public inspection. Comments must be in writing. Mail comments to: Dottie Bell, White River National Forest, PO Box 948, Glenwood Springs, Colorado 81602.

The Forest Service requests comments on the nature and scope of the environmental, social and economic issues, and possible alternatives related to the development of this Travel Management Plan and EIS.

A series of public opportunities are scheduled to explain the Travel Management Planning and provide an opportunity for public input. Five (5) scoping meetings are planned.

September 10—Garfield County Fairgrounds (one of the rooms under the grandstand), 6-9 p.m.

September 12—Blanco Ranger District Office, 3-7 p.m.

September 16—Eagle County Office in Basalt (Mt. Sopris Room), 6:30-9 p.m.

September 17—Summit County Middle School auditorium, 6-9 p.m.

September 18—Avon Public Library (Beaver Creek Room), 6-9 p.m.

Written comments will be accepted at these meetings. The Forest Service will work with tribal governments to address issues that would significantly or uniquely affect them.

Response To Comments/Forest Plan EIS Process

During the Proposed Forest Plan and DEIS comment period, many comments were received regarding travel management. Many of these were addressed in the White River Forest Plan Environmental Impact Statement in Appendix A, Response to Comments. The remaining comments, which tended to be site-specific (i.e., addressed a specific road or trail), were sorted and distributed to the responsible ranger district. The ranger district and the ID team will use these for reference. The comments received from the Proposed Forest Plan and DEIS on travel management will be incorporated into internal deliberative processes. The comments that do not comply with the Forest Plan cannot be considered. Because the Travel Management Plan/EIS is a stand-alone document, only public comment letters on the Travel Management Plan DEIS will be formally addressed in an appendix in the FEIS.

Early Notice of Importance of Public Participation in Subsequent Environmental Review

A DEIS will be prepared for comment. The comment period on the DEIS will be 60 days from the date the Environmental Protection Agency publishes the notice of availability in the Federal Register.

The Forest Service believes it is important to give reviewers notice of several court rulings related to public participation in the environmental review process. First, reviewers of DEISs must structure their participation in the environmental review of the proposal so it is meaningful and alerts an agency to the reviewer's position and contentions Vermont Yankee Nuclear Power Corp. v. NRDC, 435 U.S. 519, 553 (1978). Also, environmental objections that could be raised at the DEIS stage but are not raised until after completion of the final EIS may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 60-day comment period so substantive comments and objections are made available to the Forest Service at a time when it can meaningfully consider them and respond to them in the FEIS.

To assist the Forest Service in identifying and considering issues and concerns on the proposed action, comments on the DEIS should be as specific as possible. It is also helpful if comments refer to specific pages or chapters of the draft statement. Comments may also address the adequacy of the DEIS or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: August 20, 2002.
Stephen C. Sherwood,
Deputy Forest Supervisor.

[FR Doc. 02-21706 Filed 8-26-02; 8:45 am]

BILLING CODE 3410-BW-P